DEPARTMENT OF THE INTERIOR

Bureau of Indian Affairs

[2341A2100DD/AAKC001030/A0A501010.999900]

Forthcoming Fiscal Year 2023 Living Language Grant Program

AGENCY: Bureau of Indian Affairs (BIA), Interior.

ACTION: Announcement.

SUMMARY: The Assistant Secretary of the Interior—Indian Affairs, through the Office of Indian Economic Development (OIED), announces a forthcoming fiscal year (FY) 2023 Living Language Grant Program (LLGP) Notice of Funding Opportunity (NOFO) in advance of publication on Grants.gov. The FY 2023 LLGP will fund Native language immersion projects that support a cohesive Tribal community approach through collaborative instruction based on current language immersion models. The OIED aims to publish the NOFO and allow submission of applications in May 2023.

DATES: Proposals must be submitted no later than 5 p.m. EST by the deadline indicated in the NOFO and posting on Grants.gov.

ADDRESSES: Proposals must be submitted to https://www.Grants.gov.

FOR FURTHER INFORMATION CONTACT: Mr. Dennis Wilson, Grant Management Specialist, Office of Indian Economic Development, telephone: (505) 917-3235; email: dennis.wilson@bia.gov. If you have questions regarding the application process, please contact Ms. Jo Ann Metcalfe, Grant Officer, telephone (401) 703-3390; email jo.metcalfe@bia.gov. Individuals in the United States who are deaf, deafblind, hard of hearing, or have a speech disability may dial 711 (TTY, TDD, or TeleBraille) to access telecommunications relay services. Additional Program information can be found at: https://www.bia.gov/service/grants/ttgp.

SUPPLEMENTARY INFORMATION: This OIED announcement for the forthcoming FY 2023 LLGP NOFO provides interested applicants time to prepare their applications prior to the opening of the application period. The OIED expects the official NOFO solicitation to run for approximately 90 days on Grants.gov to receive applications. Additional information for the FY 2023 LLGP NOFO, as well as a link to the final NOFO posting on Grants.gov, will be available on OIED's website at the following URL: https://www.bia.gov/service/grants/llgp.

The FY 2023 LLGP cohort anticipates awarding between 18 to 22 grants, ranging in value from $250,000 to $300,000 in annual funding, for a three-year active period of performance. FY 2023 LLGP funding supports immersion projects that can provide an “all-of-community” language program with measurable outcomes which will be achieved within the period of performance. The forthcoming NOFO will provide the structure by which the applications will be reviewed and evaluated as they provide language immersion from a collaborative community approach.

While OIED will not accept applications at this time, interested applicants may submit questions to the grant program contacts. No project shall be funded that has comparable activities previously carried out under other federal assistance programs. The OIED encourages applicants to conduct the required registration activities for the System for Award Management (SAM), Unique Entity Identifier (UEI), the Automated Standard Application for Payment (ASAP), as well as acquire a Tribal Resolution.

The OIED anticipates the FY 2023 LLGP NOFO will publish on Grants.gov in May 2023, which will signal the opening of the application period. The application period will be open for 90 days. All applications must be submitted through Grants.gov.

The required method of submitting proposals during the open solicitation period is through Grants.gov. For information on how to apply for grants in Grants.gov, see the instructions available at https://www.grants.gov/help/html/help/Applicants/HowToApplyForGrants.htm. Eligible Applicants:

• Native American Tribal Governments (Federally recognized);

• Native American Tribal Organizations (Other than Federally recognized); and

• Indian Tribes and Tribal Organizations, as defined in Section 4 of the Indian Self-Determination and Education Assistance Act (ISDEAA) (25 U.S.C. 5304), including Tribal Consortia.

Bryan Newland,
Assistant Secretary—Indian Affairs.

[FR Doc. 2023-09653 Filed 5-4-23; 8:45 am]

BILLING CODE 4337-15-P